FEDERAL TRADE COMMISSION

Agency Information Collection Activities; Proposed Collection; Comment Request; Extension

AGENCY: Federal Trade Commission.

ACTION: Notice and request for comment.

SUMMARY: The Federal Trade Commission (“FTC” or “Commission”) requests that the Office of Management and Budget (“OMB”) extend for an additional three years the current Paperwork Reduction Act (“PRA”) clearance for the information collection requirements in the Alternative Fuels Rule (“Rule”). That clearance expires on April 30, 2025.

DATES: Comments must be received by May 27, 2025.

ADDRESSES: Written comments and recommendations for the proposed information collection should be sent within 30 days of publication of this notice to www.reginfo.gov/public/do/PRAMain. Find this particular information collection and its accompanying supporting statement by selecting “Currently under 30-day Review—Open for Public Comments” or by using the search function. The reginfo.gov web link is a United States Government website produced by OMB and the General Services Administration (GSA). Under PRA requirements, OMB's Office of Information and Regulatory Affairs (OIRA) reviews Federal information collections.

FOR FURTHER INFORMATION CONTACT: Hong Park, Attorney, Division of Enforcement, Bureau of Consumer Protection, Federal Trade Commission, (202) 326-2158, hpark@ftc.gov.

SUPPLEMENTARY INFORMATION:

Title of Collection: Labeling Requirements for Alternative Fuels and Alternative Fueled Vehicles (Alternative Fuels Rule), 16 CFR part 309.

OMB Control Number: 3084-0094.

Type of Review: Extension without change of currently approved collection.

Affected Public: Private Sector: Businesses and other for-profit entities.

Estimated Annual Burden Hours: 2,900 hours.

Estimated Annual Labor Costs: $106,752.¹

¹ This estimate is updated from the prior estimate of $103,337 that was included in the 60-Day Federal Register notice and is based on more current information from the Bureau of Labor Statistics. See Table 1. National employment and wage data from the Occupational Employment Statistics survey by occupation, May 2024, at https://www.bls.gov/news.release/ocwage.t01.htm, which was made publicly available on April 2, 2025.

Non-Labor Costs: $1,350.

Abstract

The Energy Policy Act of 1992 established federal programs to encourage the development of alternative fuels and alternative fueled vehicles (AFVs). Section 406(a) of the Act directed the Commission to establish uniform labeling requirements for alternative fuels and AFVs. 42 U.S.C. 13232(a). Such labels must provide “appropriate information with respect to costs and benefits [of alternative fuels and AFVs], so as to reasonably enable the consumer to make choices and comparisons.” The required labels must be “simple and, where appropriate, consolidated with other labels providing information to the consumer.”

Pursuant to the Act, the Commission published the Alternative Fuels Rule in 1995, and the Rule was later amended in 2013.² The Rule requires disclosure of specific information on labels posted on fuel dispensers for non-liquid alternative fuels. To ensure the accuracy of these disclosures, the Rule also requires that sellers maintain records substantiating product-specific disclosures they include on these labels. In addition, the Rule requires that distributors of non-liquid alternative vehicle fuel provide certifications of the fuel rating in each transfer to anyone who is not a consumer.

² 78 FR 23832 (April 23, 2013). The final amendments consolidated the Commission's AFV labels with the then new fuel economy labels required by the Environmental Protection Agency thereby eliminating the FTC's separate labeling requirements for used AFV labels.

Request for Comment

On January 28, 2025, the FTC sought public comment on the information collection requirements associated with the Rule. 90 FR 8296. The Commission received one germane comment from Imaging Inc., Cardiac, which encouraged the Commission to assess whether the information collection requirements are still efficient and not overly burdensome, particularly for small businesses. The Commission's analysis and findings in this notice's accompanying Supporting Statement address this concern. Pursuant to the OMB regulations, 5 CFR part 1320, that implement the PRA, 44 U.S.C. 3501 et seq., the FTC is providing this second opportunity for public comment while seeking OMB approval to renew the pre-existing clearance for the Rules.

Your comment—including your name and your state—will be placed on the public record of this proceeding. Because your comment will be made public, you are solely responsible for making sure that your comment does not include any sensitive personal information, such as anyone's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Josephine Liu,
Assistant General Counsel for Legal Counsel.

[FR Doc. 2025-07195 Filed 4-24-25; 8:45 am]

BILLING CODE 6750-01-P